DEPARTMENT OF TRANSPORTATION

Coast Guard

33 CFR Part 117

[CGD07-00-112]

Drawbridge Operation Regulations: Stickney Point Bridge (SR 72), Sarasota, Sarasota County, FL

AGENCY: Coast Guard, DOT.

ACTION: Notice of temporary deviation from regulations.

SUMMARY: The Commander, Seventh Coast Guard District, has approved a temporary deviation from the regulations governing the operation of the Stickney Point Drawbridge (SR 72) across the Gulf Intracoastal Waterway, mile 68.6, Sarasota, Sarasota County, Florida. This deviation allows the drawbridge owner to provide single leaf openings for vessel traffic. This temporary deviation is required November 20, 2000 from 8 a.m. until 4 p.m., to allow the bridge owner to safely complete maintenance to the drawbridge.

DATES: This deviation is effective on November 20, 2000 from 8 a.m. until 4 p.m.

FOR FURTHER INFORMATION CONTACT: Mr. Barry Dragon, Chief, Operations Section, Seventh Coast Guard District, Bridge Section at (305) 415-6743.

SUPPLEMENTARY INFORMATION: The Stickney Point Drawbridge (SR 72) across the Gulf Intracoastal Waterway at Sarasota, FL has a vertical clearance of 18 feet above mean high water (MHW) measured at the center in the closed position. On October 30, 2000 the owner, requested a deviation from the current operating regulation in 33 CFR 117.35 which requires the drawbridge to open promptly and fully when a request to open is given. This temporary deviation was requested to allow necessary maintenance to the drawbridge in a critical time sensitive manner.

The District Commander has granted a temporary deviation from the operating requirements listed in 33 CFR 117.35 for the purpose of maintenance of the drawbridge. Under this deviation, the Stickney Point Drawbridge (SR 72) need only provide single leaf openings. The deviation is effective on November 20, 2000 from 8 a.m. until 4 p.m.

Dated: November 7, 2000.
G.E. Shapley,
Chief, Bridge Administration, Seventh Coast Guard District.

[FR Doc. 00-29102 Filed 11-14-00; 8:45 am]

BILLING CODE 4910-15-U